DEPARTMENT OF ENERGY

Federal Energy Regulatory Commission

Combined Notice of Filings

Take notice that the Commission has received the following Natural Gas Pipeline Rate and Refund Report filings:

Filings Instituting Proceedings

Docket Numbers: CP13-11-000.

Applicants: Peoples TWP LLC.

Description: Application for Limited Jurisidiction Blanket Certificate of Peoples TWP LLC.

Filed Date: 10/31/12.

Accession Number: 20121101-0003.

Comments Due: 5 p.m. ET 11/13/12.

Docket Numbers: RP13-243-000.

Applicants: Crossroads Pipeline Company.

Description: PFSA Cleanup to be effective 12/1/2012.

Filed Date: 11/1/12.

Accession Number: 20121101-5042.

Comments Due: 5 p.m. ET 11/13/12.

Docket Numbers: RP13-244-000.

Applicants: Columbia Gas Transmission, LLC.

Description: PFSA Clean Up to be effective 12/1/2012.

Filed Date: 11/1/12.

Accession Number: 20121101-5047.

Comments Due: 5 p.m. ET 11/13/12.

Docket Numbers: RP13-245-000.

Applicants: Central Kentucky Transmission Company.

Description: PFSA Cleanup to be effective 12/1/2012.

Filed Date: 11/1/12.

Accession Number: 20121101-5053.

Comments Due: 5 p.m. ET 11/13/12.

Docket Numbers: RP13-246-000.

Applicants: Hardy Storage Company, LLC.

Description: PFSA Cleanup Filing to be effective 12/1/2012.

Filed Date: 11/1/12.

Accession Number: 20121101-5056.

Comments Due: 5 p.m. ET 11/13/12.

Docket Numbers: RP13-247-000.

Applicants: ANR Storage Company.

Description: J. Aron FS Agmt to be effective 11/1/2012.

Filed Date: 11/1/12.

Accession Number: 20121101-5057.

Comments Due: 5 p.m. ET 11/13/12.

Docket Numbers: RP13-248-000.

Applicants: Columbia Gulf Transmission Company.

Description: PFSA Cleanup to be effective 12/1/2012.

Filed Date: 11/1/12.

Accession Number: 20121101-5059.

Comments Due: 5 p.m. ET 11/13/12.

Docket Numbers: RP13-249-000.

Applicants: ANR Pipeline Company.

Description: Nexen_Integrys Agmts to be effective 11/1/2012.

Filed Date: 11/1/12.

Accession Number: 20121101-5100.

Comments Due: 5 p.m. ET 11/13/12.

Docket Numbers: RP13-250-000.

Applicants: Algonquin Gas Transmission, LLC.

Description: Brooklyn Union Gas Company Releases November 2012 Ramapo to be effective 11/1/2012.

Filed Date: 11/1/12.

Accession Number: 20121101-5101.

Comments Due: 5 p.m. ET 11/13/12.

Docket Numbers: RP13-252-000.

Applicants: CenterPoint Energy Gas Transmission Comp.

Description: CEGT LLC—Neg Rate Filing—November 2012 to be effective 11/1/2012.

Filed Date: 11/1/12.

Accession Number: 20121101-5147.

Comments Due: 5 p.m. ET 11/13/12.

Docket Numbers: RP13-253-000.

Applicants: Northern Border Pipeline Company.

Description: Ameren Illinois Rate Change to be effective 11/1/2012.

Filed Date: 11/1/12.

Accession Number: 20121101-5151.

Comments Due: 5 p.m. ET 11/13/12.

Docket Numbers: RP13-254-000.

Applicants: Millennium Pipeline Company, LLC.

Description: Negotiated Rate Service Agmts No. 5582, 135770 to be effective 11/1/2012.

Filed Date: 11/1/12.

Accession Number: 20121101-5160.

Comments Due: 5 p.m. ET 11/13/12.

Docket Numbers: RP13-255-000.

Applicants: Granite State Gas Transmission, Inc.

Description: Non-Conforming Contracts to be effective 11/1/2012.

Filed Date: 11/1/12.

Accession Number: 20121101-5164.

Comments Due: 5 p.m. ET 11/13/12.

Docket Numbers: RP13-256-000.

Applicants: Equitrans, L.P.

Description: Equitrans, L.P. submits Operational Purchases and Sales Report for the twelve month period ended August 31, 2012.

Filed Date: 11/1/12.

Accession Number: 20121101-5184.

Comments Due: 5 p.m. ET 11/13/12.

Docket Numbers: RP13-257-000.

Applicants: Destin Pipeline Company, L.L.C.

Description: Fuel Retention Adjustment to be effective 12/1/2012.

Filed Date: 11/1/12.

Accession Number: 20121101-5187.

Comments Due: 5 p.m. ET 11/13/12.

Docket Numbers: RP13-258-000.

Applicants: Alliance Pipeline L.P.

Description: November 6-15 2012 Auction to be effective 11/6/2012.

Filed Date: 11/2/12.

Accession Number: 20121102-5151.

Comments Due: 5 p.m. ET 11/14/12.

Docket Numbers: RP13-259-000.

Applicants: ANR Pipeline Company.

Description: BP Energy_Exploration to be effective 11/1/2012.

Filed Date: 11/2/12.

Accession Number: 20121102-5195.

Comments Due: 5 p.m. ET 11/14/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-610-001.

Applicants: Columbia Gas Transmission, LLC.

Description: South Jersey Compliance Filing—Inservice.

Filed Date: 11/1/12.

Accession Number: 20121101-5159.

Comments Due: 5 p.m. ET 11/13/12.

Docket Numbers: RP13-218-001.

Applicants: Carolina Gas Transmission Corporation.

Description: BG Negotiated Rate Filing Amendment to be effective 11/1/2012.

Filed Date: 11/1/12.

Accession Number: 20121101-5124.

Comments Due: 5 p.m. ET 11/13/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 5, 2012.
Nathaniel J. Davis, Sr.,
Deputy Secretary.

[FR Doc. 2012-27386 Filed 11-8-12; 8:45 am]

BILLING CODE 6717-01-P